DEPARTMENT OF DEFENSE

Defense Threat Reduction Agency; Privacy Act of 1974; System of Records

AGENCY: Defense Threat Reduction Agency, DoD.

ACTION: Notice to Alter a System of Records; HDTRA 020—Security Operations.

SUMMARY: The Defense Threat Reduction Agency proposes to alter a system of records notice in its existing inventory of records systems subject to the Privacy Act of 1974, (5 U.S.C. 552a), as amended.

DATES: This proposed action will be effective without further notice on September 8, 2005 unless comments are received which result in a contrary determination.

ADDRESSES: Send comments to the General Counsel, Defense Threat Reduction Agency, 8725 John J. Kingman Road, Fort Belvoir, VA 22060-6201.

FOR FURTHER INFORMATION CONTACT: Ms. Brenda Carter at (703) 325-1205.

SUPPLEMENTARY INFORMATION: The Defense Threat Reduction Agency systems of records notices subject to the Privacy Act of 1974, (5 U.S.C. 552a), as amended, have been published in the Federal Register and are available from the address above.

The proposed system reports, as required by 5 U.S.C. 552a(r), of the Privacy Act of 1974, as amended, were submitted on August 1, 2005, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: August 2, 2005.
Jeannette Owings-Ballard,
OSD Federal Register Liaison Officer, Department of Defense.

HDTRA 020

System name:

Security Operations (December 14, 1998, 63 FR 68736).

Changes:

* * * * *

System location:

Delete entry and replace with “Nuclear Test Personnel Review, Defense Threat Reduction Agency, 8725 John J. Kingman Road, Fort Belvoir, VA 22060-6201.”

* * * * *

Authority for maintenance of the system:

Delete entry and replace with “10 U.S.C. 133, Under Secretary of Defense for Acquisitions, Technology and Logistics; E.O. 12891, Committee on Human Radiation Experiments; and E.O. 9397 (SSN).”

* * * * *

Routine uses of records maintained in the system:

Delete second paragraph and replace with “To the National Aeronautics and Space Administration, Department of Justice, Department of Energy, Department of Health and Human Services, Department of Veterans Affairs, Central Intelligence Agency, and Office of Management and Budget for purposes of performing official activities or requirements related to the Department of Defense's review program for human radiation research.”

* * * * *

Storage:

Delete entry and replace with “Paper records in files and on electronic storage media.”

* * * * *

Safeguards:

Delete entry and replace with “Access to or disclosure of information is limited to authorized personnel. Paper records and computer systems are located in areas accessible only by authorized personnel. Buildings are protected by security guards and intrusion alarm systems. Access to computer programs is controlled through software applications that require validation prior to use.”

Retention and disposal:

Delete the words “command center” and replace with “Defense Threat Reduction Agency”.

System manager(s) and address:

Delete entry and replace with “Nuclear Test Personnel Review Program Manager, Defense Threat Reduction Agency, 8725 John J. Kingman Road, Fort Belvoir, VA 22060-6201.”

Notification procedure:

Delete address and replace with “Nuclear Test Personnel Review, Defense Threat Reduction Agency, 8725 John J. Kingman Road, Fort Belvoir, VA 22060-6201.”

Record access procedures:

Delete address and replace with “Nuclear Test Personnel Review, Defense Threat Reduction Agency, 8725 John J. Kingman Road, Fort Belvoir, VA 22060-6201.”

Contesting record procedures:

Delete address and replace with “Nuclear Test Personnel Review, Defense Threat Reduction Agency, 8725 John J. Kingman Road, Fort Belvoir, VA 22060-6201.”

* * * * *

HDTRA 020

System name:

Human Radiation Research Review.

System location:

Nuclear Test Personnel Review, Defense Threat Reduction Agency, 8725 John J. Kingman Road, Fort Belvoir, VA 22060-6201.

Categories of individuals covered by the system:

Individuals who were or may have been the subject of tests involving ionizing radiation or other human-subject experimentation; individuals who have inquired or provided information to the Department of Energy Helpline or the Department of Defense Human Radiation Experimentation Command Center concerning such testing.

Military and DoD civilian personnel who participated in atmospheric nuclear testing between 1945 and 1962 or the occupation of Hiroshima and Nagasaki are already included in the Defense Threat Reduction Agency Privacy Act system of records notice HDTRA 010, Nuclear Test Participants and are not part of this effort. However, inquiries referred from the Helpline that later are determined to fall within this category will be included in the system.

Categories of records in the system:

Information in the system includes an individual's name, Social Security Number or service number, last known or current address, occupational information, dates and extent of involvement in an experiment, exposure data, medical data, medical history of subject and relatives, and other documentation of exposure to ionizing radiation or other agents.

The system contains information abstracted from historical records, and information furnished to the Department of Defense, Department of Energy or other Federal Agencies by affected individuals or other interested parties.

Records include human radiation experimentation conducted from 1944 to the present. However, experiments conducted after May 20, 1974 (the date of issuance of the Department of Health, Education and Welfare Regulations for the Protection of Human Subjects, 45 CFR part 46), may be covered by other systems of records.

Common and routine medical practices, such as established diagnostic and treatment methods involving incidental exposures to ionizing radiation are not included within this system.

Examples of such methods are panorex radiographs for dental evaluations and thyroid scans for the evaluation and treatment of hypo/hyperthyroidism.

Authority for maintenance of the system:

10 U.S.C. 133, Under Secretary of Defense for Acquisitions, Technology and Logistics; E.O. 12891, Committee on Human Radiation Experiments; and E.O. 9397 (SSN).

Purpose(s):

For use by agency officials and employees, or authorized contractors, and other DoD components in the preparation of the histories of human radiation experimentation; to conduct scientific studies or medical follow-up programs; to respond to Congressional and Executive branch inquiries; and to provide data or documentation relevant to the exposure of individuals.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the National Aeronautics and Space Administration, Department of Justice, Department of Energy, Department of Health and Human Services, Department of Veterans Affairs, Central Intelligence Agency, and Office of Management and Budget for purposes of performing official activities or requirements related to the Department of Defense's review program for human radiation research. The “Blanket Routine Uses” published at the beginning of DTRA's compilation of systems notices apply to this system.

Policies and practices for storing, retrieving, accessing, retaining, and disposing of records in the system:

Storage:

Paper records in files and on electronic storage media.

Retrievability:

Records are retrieved by case number, name, study control number, Social Security Number, or service number.

Safeguards:

Access to or disclosure of information is limited to authorized personnel. Paper records and computer systems are located in areas accessible only by authorized personnel. Buildings are protected by security guards and intrusion alarm systems. Access to computer programs is controlled through software applications that require validation prior to use.

Retention and disposal:

Files will be retained permanently. They will be maintained in the custody of the Defense Threat Reduction Agency until all claims have been settled and then transferred to the National Archives and Records Administration.

System manager(s) and address:

Nuclear Test Personnel Review Program Manager, Defense Threat Reduction Agency, 8725 John J. Kingman Road, Fort Belvoir, VA 22060-6201.

Notification procedure:

Individuals seeking to determine whether information about themselves is contained in this system of records should address written inquiries to the Nuclear Test Personnel Review, Defense Threat Reduction Agency, 8725 John J. Kingman Road, Fort Belvoir, VA 22060-6201.

Individuals should provide full name, Social Security Number, or service number, and if known, case or study control number.

Record access procedures:

Individuals seeking access to records about themselves contained in this system of records should address written inquiries to the Nuclear Test Personnel Review, Defense Threat Reduction Agency, 8725 John J. Kingman Road, Fort Belvoir, VA 22060-6201.

Individuals should provide full name, Social Security Number, or service number, and if known, case or study control number.

Contesting record procedures:

The DTRA rules for accessing records and for contesting contents and appealing initial agency determinations are published in DTRA Instruction 5400.11B; 32 CFR part 318; or may be obtained from the Nuclear Test Personnel Review, Defense Threat Reduction Agency, 8725 John J. Kingman Road, Fort Belvoir, VA 22060-6201.

Record source categories:

Information will be collected directly from individuals, as well as extracted from historical records to include personnel files and lists, training files, medical records, legal case files, radiation and other hazard exposure records, occupational and industrial accident records, employee insurance claims, organizational and institutional administrative files, and related sources. The specific types of records used are determined by the nature of an individual's exposure to radiation.

Exemptions claimed for the system:

None.

[FR Doc. 05-15671 Filed 8-8-05; 8:45 am]

BILLING CODE 5001-06-P